DEPARTMENT OF STATE

[Public Notice: 7632]

Privacy Act; System of Records: State-77, Country Clearance Records

SUMMARY: Notice is hereby given that the Department of State proposes to create a system of records, Country Clearance Records, State-77, pursuant to the provisions of the Privacy Act of 1974, as amended (5 U.S.C. 552a) and Office of Management and Budget Circular No. A-130, Appendix I.

DATES: This system of records will become effective on November 14, 2011, unless we receive comments that will result in a contrary determination.

ADDRESSES: Any persons interested in commenting on this new system of records may do so by submitting comments in writing to the Director; Office of Information Programs and Services, A/GIS/IPS; Department of State, SA-2; 515 22nd Street, NW.; Washington, DC 20522-8001.

FOR FURTHER INFORMATION CONTACT: Director; Office of Information Programs and Services, A/GIS/IPS; Department of State, SA-2; 515 22nd Street, NW.; Washington, DC 20522-8001.

SUPPLEMENTARY INFORMATION:

The Department of State proposes the new system of records named “Country Clearance Records.” During a review of Department of State operations, this system was identified as being in operation and subject to the provisions of the Privacy Act. This notice is being published to address the requirements of the Privacy Act of 1974, as amended. The proposed system will maintain information required to request permission from the chief of mission for the planned presence in his or her country, post, or mission of an employee or contractor of the Department of State or other Executive Branch agency.

The Department's report was filed with the Office of Management and Budget. The new system description, “Country Clearance Records, State-77” will read as set forth below.

Dated: September 8, 2011.
Keith D. Miller,
Director, Office of Operations, Bureau of Administration, U.S. Department of State.

STATE-77

SYSTEM NAME:

Country Clearance Records.

SECURITY CLASSIFICATION:

Unclassified.

SYSTEM LOCATION:

Office of Management Policy, Rightsizing and Innovation (M/PRI), Department of State, 2201 C Street NW., Washington, DC 20520-3822; all U.S. posts and missions abroad; and corresponding automated data processing facilities.

CATEGORIES OF INDIVIDUALS COVERED BY THE SYSTEM:

Employees and contractors of the Department of State and other Executive Branch agencies of the U.S. Government.

CATEGORIES OF RECORDS IN THE SYSTEM:

Individual name, email address, phone number, passport country and number, agency, employment type, country of birth, emergency contact information, purpose of visit, lodging information, carrier information, level of security clearance and travel itineraries.

AUTHORITY FOR MAINTENANCE OF THE SYSTEM:

22 U.S.C. 3927, Chief of Mission.

PURPOSE:

To request permission from the chief of mission for the planned presence in his or her country, post, or mission of an employee or contractor of the Department of State or other Executive Branch agency.

ROUTINE USES OF RECORDS MAINTAINED IN THE SYSTEM, INCLUDING CATEGORIES OF USERS AND PURPOSES OF SUCH USES:

The Department shares Country Clearance records with designated administrators of other Executive Branch agencies utilizing the eCountry Clearance system for employees or contractors on official travel to U.S. posts and missions abroad.

The Department of State periodically publishes in the Federal Register its standard routine uses which apply to all of its Privacy Act systems of records. These notices appear in the form of a Prefatory Statement. These standard routine uses apply to Country Clearance Records, State-77.

POLICIES AND PRACTICES FOR STORING, RETRIEVING, ACCESSING, RETAINING AND DISPOSING OF RECORDS IN THE SYSTEM:

STORAGE:

Electronic and paper records.

RETRIEVABILITY:

Records are retrieved by the individual's name or itinerary number.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course instructing employees on privacy and security requirements, including the Rules of Behavior for handling PII and the potential consequences if it is handled improperly. Before being granted access to Country Clearance Records, a user must first be granted access to the Department of State computer system.

Remote access to the Department of State network from non-Department owned systems is authorized only through a Department approved access program. Remote access to the network is configured with the Office of Management and Budget Memorandum M-07-16 security requirements, which include but are not limited to two-factor authentication and time out function.

All Department of State employees and contractors with authorized access have undergone a thorough background security investigation. Access to the Department of State, its annexes, posts, and missions abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are disposed of in accordance with published Department of State Records Disposition Schedules as approved by the National Archives and Records Administration (NARA). More specific information may be obtained by writing to the Director, Office of Information Programs and Services, Department of State, SA-2, 515 22nd Street, NW., Washington, DC 20522-8001.

SYSTEM MANAGER AND ADDRESS:

Director, Office of Management Policy, Rightsizing and Innovation (M/PRI), 2201 C Street, NW., Washington, DC 20520-3822.

NOTIFICATION PROCEDURES:

Individuals who have reason to believe that the Office of Management Policy, Rightsizing and Innovation (M/PRI) may have information pertaining to them may write to the Director, Office of Information Programs and Services, Department of State, SA-2, 515 22nd Street, NW., Washington, DC 20522- 8001. The individual must specify that he/she wishes Country Clearance Records to be checked. At a minimum, the individual should include his or her name, current mailing address, zip code, and signature; and a brief description of the circumstances that caused the individual to believe that the system of records contains records pertaining to him or her, including dates and locations of travel episodes for which the individual believes he or she may have caused the creation of country clearance records.

RECORD ACCESS PROCEDURES:

Individuals who wish to gain access to or amend records pertaining to them should write to the Director, Office of Information Programs and Services (address above).

CONTESTING RECORD PROCEDURES:

(See above).

RECORD SOURCE CATEGORIES:

These records contain information obtained directly from the individual who is the subject of these records, from the Executive Branch agency employing the individual, and M/PRI and post or mission staff abroad.

SYSTEMS EXEMPTED FROM CERTAIN PROVISIONS OF THE ACT:

None.

[FR Doc. 2011-25433 Filed 9-30-11; 8:45 am]

BILLING CODE 4710-24-P